DEPARTMENT OF THE INTERIOR

Fish and Wildlife Service

[FWS-R9-IA-2009-N238]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by December 9, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: University of Texas, Austin, TX, PRT-182099

The applicant requests an amendment to the permit to acquire from Coriell Institute of Medical Research, Camden, NJ, in interstate commerce cell line cultures from various threatened and endangered non-human Primates species for the purpose of scientific research. The notification covers activities conducted by the applicant over the remainder of the 5-year period.

Applicant: Panther Ridge Conservation Center, Wellington, FL, PRT-224100

The applicant requests a permit to import one live, captive-born cheetah (Acinonyx jubatus) from South Africa for the purpose of enhancement of the survival of the species.

Endangered Marine Mammals and Marine Mammals

The public is invited to comment on the following applications for a permit to conduct certain activities with endangered marine mammals and/or marine mammals. The applications were submitted to satisfy requirements of the Endangered Species Act of 1973, as amended (16 U.S.C. 1531 et seq.) and/or the Marine Mammal Protection Act of 1972, as amended (16 U.S.C. 1361 et seq.), and the regulations governing endangered species (50 CFR Part 17) and/or marine mammals (50 CFR Part 18). Submit your written data, comments, or requests for copies of the complete applications or requests for a public hearing on these applications to the address shown in ADDRESSES. If you request a hearing, give specific reasons why a hearing would be appropriate. The holding of such a hearing is at the discretion of the Director.

Applicant: Tom S. Smith, Brigham Young University, Provo, UT, PRT-225854

The applicant requests a permit to authorize harassment of up to 18 polar bears (Ursus maritimus) per year by maintaining video cameras near dens for the purpose of scientific research. This notification covers activities to be conducted by the applicant over a 5-year period.

Applicant: Natalija Lace, University of Southern Mississippi, Hattiesburg, MS, PRT-226641

The applicant requests a permit to authorize harassment of captive-held manatees (Trichechus manatus) at Lowry Park Zoo, Florida, that are undergoing rehabilitation prior to release back to the wild, for the purpose of scientific research on the effects of underwater sound propagation on manatee sleep patterns. This notification covers activities to be conducted by the applicant over a 1-year period.

Concurrent with publishing this notice in the Federal Register, we are forwarding copies of the above applications to the Marine Mammal Commission and the Committee of Scientific Advisors for their review.

Dated: October 30, 2009.
Lisa J. Lierheimer,
Senior Permit Biologist, Branch of Permits, Division of Management Authority

[FR Doc. E9-26874 Filed 11-6-09; 8:45 am]

BILLING CODE 4310-55-S